DEPARTMENT OF TRANSPORTATION

Federal Aviation Administration

[Summary Notice No. PE-2002-22]

Petition for Exemption; Summary of Petition Received

AGENCY: Federal Aviation Administration (FAA), DOT.

ACTION: Notice of petition for exemption received.

SUMMARY: Pursuant to FAA's rulemaking provisions governing the application, processing, and disposition of petitions for exemption part 11 of Title 14, Code of Federal Regulations (14 CFR), this notice contains a summary of a certain petition seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 8, 2002.

ADDRESSES: Send comments on any petition to the Docket Management System, U.S. Department of Transportation, Room Plaza 401, 400 Seventh Street, SW., Washington, DC 20590-0001. You must identify the docket number of FAA-2001-11316 at the beginning of your comments. If you wish to receive confirmation that FAA received your comments, include a self-addressed stamped postcard.

You must also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Vanessa Wilkins, Office of Rulemaking (ARM-1), Federal Aviation Administration, 800 Independence Avenue, SW., Washington, DC 20591. Tel. (202) 267-8029.

This notice is published pursuant to 14 CFR 11.85 and 11.91.

Issued in Washington, DC on March 22, 2002.
Gary A. Michel,
Acting Assistant Chief Counsel for Regulations.

Petitions for Exemption

Docket No.: FAA-2001-11316.

Petitioner: Fairchild Dornier Gmbh.

Section of 14 CFR Affected: 14 CFR 25.785(b) (formerly § 25.785(a)).

Description of Relief Sought: To allow Fairchild Dornier to install side-facing divan seats in Dornier 328-100 and 328-300 series airplanes, and to provide Fairchild Dornier with relief from the requirement that each seat, berth, safety belt, harness, and adjacent part of the airplane at each station designed as occupiable during takeoff and landing be designed so that a person making proper use of these facilities will not suffer serious injury in an emergency landing as a result of the inertia forces specified in §§ 25.561 and 25.562.

[FR Doc. 02-7485 Filed 3-27-02; 8:45 am]

BILLING CODE 4910-13-M